DEPARTMENT OF STATE

[Public Notice: 10798]

U.S. Department of State Advisory Committee on Private International Law (ACPIL): Public Meeting on Arbitration and Conciliation

The Office of the Assistant Legal Adviser for Private International Law, Department of State, gives notice of a public meeting to discuss possible topics for future work related to arbitration or conciliation in the United Nations Commission on International Trade Law (UNCITRAL). The public meeting will take place on Tuesday, June 25, 2019, from 10:00 a.m. until 12:30 p.m. EDT. This is not a meeting of the full Advisory Committee.

UNCITRAL's Working Group II (Dispute Settlement) is currently working on the development of an international framework for expedited arbitration. The purpose of this public meeting is to obtain the views of concerned stakeholders on topics related to the characteristics of expedited arbitration, including how expedited procedures may affect the selection of arbitrators, relevant timelines, procedural and evidentiary matters and issuance of an award. Concerned stakeholders may also provide views on whether the project should also address emergency arbitrators and adjudication and early dismissal procedures, or be tailored for specific sectors that might benefit from expedited arbitration procedures. The discussion will draw on UNCITRAL Working Group II's report of its 69th session, held in February 2019 (Doc. No. A/CN9./969) (available at: https://undocs.org/en/A/CN.9/969).

Time and Place: The meeting will take place on June 25, 2019, from 10:00 a.m. until 12:30 p.m. via a teleconference. Those who cannot participate but wish to comment are welcome to do so by email to Karin Kizer at KizerKL@state.gov.

Public Participation: This meeting is open to the public. If you would like to participate by telephone, please email pil@state.gov to obtain the call-in number and other information.

Michael S. Coffee,
Attorney-Adviser, Office of Private International Law, Office of Legal Adviser, Department of State.

[FR Doc. 2019-12716 Filed 6-14-19; 8:45 am]

BILLING CODE 4710-08-P